DEPARTMENT OF TRANSPORTATION

Surface Transportation Board

[Docket No. EP 552 (Sub-No. 15)]

Railroad Revenue Adequacy—2010 Determination

AGENCY: Surface Transportation Board, DOT.

ACTION: Notice of decision.

SUMMARY: On November 3, 2011, the Board served a decision announcing the 2010 revenue adequacy determinations for the Nation's Class I railroads. One carrier, Union Pacific Railroad Company, was found to be revenue adequate.

DATES: Effective Date: This decision is effective on November 3, 2011.

FOR FURTHER INFORMATION CONTACT: Paul Aguiar, (202) 245-0323. Assistance for the hearing impaired is available through Federal Information Relay Service (FIRS) at (800) 877-8339.

SUPPLEMENTARY INFORMATION: The Board is required to make an annual determination of railroad revenue adequacy. A railroad is considered revenue adequate under 49 U.S.C. 10704(a) if it achieves a rate of return on net investment equal to at least the current cost of capital for the railroad industry for 2010, determined to be 11.03% in Railroad Cost of Capital—2010, Docket No. EP 558 (Sub-No. 14) (STB served Oct. 3, 2011). This revenue adequacy standard was applied to each Class I railroad. One carrier, Union Pacific Railroad Company, was found to be revenue adequate for 2010.

The decision in this proceeding is posted on the Board's Web site at http://www.stb.dot.gov. Copies of the decision may be purchased by contacting the Office of Public Assistance, Governmental Affairs, and Compliance at (202) 245-0238. Assistance for the hearing impaired is available through FIRS at (800) 877-8339.

This action will not significantly affect either the quality of the human environment or the conservation of energy resources.

Decided: November 2, 2011.
By the Board, Chairman Elliott, Vice Chairman Begeman, and Commissioner Mulvey.
Jeffrey Herzig,
Clearance Clerk.

[FR Doc. 2011-28748 Filed 11-4-11; 8:45 am]

BILLING CODE 4915-01-P